DEPARTMENT OF ENERGY

Federal Energy Regulatory Commission

[Project No. 14241-001]

Alaska Energy Authority; Notice of Preliminary Permit Application Accepted for Filing and Soliciting Comments, Motions To Intervene, and Competing Applications

On October 27, 2011, and supplemented on November 11, 2011, the Alaska Energy Authority filed an application for a preliminary permit, pursuant to section 4(f) of the Federal Power Act (FPA), proposing to study the feasibility of the Susitna-Watana Hydroelectric Project (project) to be located on the Susitna River, near Cantwell, in Matanuska-Susitna Borough, Alaska. The sole purpose of a preliminary permit, if issued, is to grant the permit holder priority to file a license application during the permit term. A preliminary permit does not authorize the permit holder to perform any land-disturbing activities or otherwise enter upon lands or waters owned by others without the owners' express permission.

The proposed project would consist of the following: (1) A 700-foot-high, either 2,500-foot-long concrete faced, rockfilled, or 2,630-foot-long roller compacted concrete or earth core rockfilled dam; (2) a reservoir with normal surface area of 22,500 acres and 2,500,000 acre-feet of usable storage capacity at elevation 2000 feet mean sea level; (3) three intakes at invert elevation of 1,800 feet equipped with three 18-foot-wide by 28-foot-high fixed wheel intake gates with trashracks; (4) a 36-foot-diameter, 3,700-foot-long diversion tunnel to be used during construction; (5) three turbine/generator units with a total capacity of 600 megawatts; (6) a 1,500-foot-long tailrace tunnel; (7) a 24-foot-wide gravel road from either the existing Denali Highway or from a road spur leading off the railroad at Gold Creek or Chulitna rail stops along the Alaska Railroad; (8) three 230-kilovolt transmission lines, each either 35 to 39 miles or 65 miles in length, connecting to either the existing Anchorage-Fairbanks Intertie near Gold Creek, Chulitna, or Cantwell along the Denali Highway; and (9) appurtenant facilities. The estimated annual generation of the project would be 2,600 gigawatt-hours.

Applicant Contact: Ms. Sara Fisher-Goad, Executive Director, Alaska Energy Authority, 813 West Northern Light Boulevard, Anchorage, AK 99503; phone: (907) 771-3000.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14214-001) in the docket number field to access the document. For assistance, contact FERC Online Support.

Dated: November 16, 2011.
Kimberly D. Bose,
Secretary.

[FR Doc. 2011-30128 Filed 11-21-11; 8:45 am]

BILLING CODE 6717-01-P